DEPARTMENT OF JUSTICE

Antitrust Division

Notice Pursuant to the National Cooperative Research and Production Act of 1993—Collaboration Agreement for High Performance Buildings

Notice is hereby given that, on March 23, 2006, pursuant to section 6(a) of the National Cooperative Research and Production Act of 1993, 15 U.S.C. 4301 et seq. (“the Act”), Collaboration Agreement with High Performance Buildings has filed written notifications simultaneously with the Attorney General and the Federal Trade Commission disclosing changes in its membership. The notifications were filed for the purpose of extending the Act's provisions limiting the recovery of antitrust plaintiffs to actual damages under specified circumstances. Specifically, Green Building Studio, Inc., Santa Rosa, CA has been added as a party to this venture.

No other changes have been made in either the membership or planned activity of the group research project. Membership in this group research project remains open, and Collaboration Agreement for High Performance Buildings intends to file additional written notification disclosing all changes in membership.

On May 25, 2004, Collaboration Agreement with High Performance Buildings filed its original notification pursuant to Section 6(a) of the Act. The Department of Justice published a notice in the Federal Register pursuant to Section 6(b) of the Act on June 25, 2004 (69 FR 35678).

Dorothy B. Fountain,
Deputy Director of Operations, Antitrust Division.

[FR Doc. 06-3954 Filed 4-26-06; 8:45 am]

BILLING CODE 4410-11-M